GENERAL SERVICES ADMINISTRATION

Multiple Award Schedule Advisory Panel; Notification of Public Advisory Panel Meetings; Correction

AGENCY: U.S. General Services Administration (GSA).

ACTION: Correction.

SUMMARY: In the meeting notice that published in the issue of Wednesday, April 16, 2008 (73 FR 20675), the telephone number for Ms. Pat Brooks in FOR FURTHER INFORMATION CONTACT should read as set forth below.

FOR FURTHER INFORMATION CONTACT: Information on the Panel meetings, agendas, and other information can be obtained at http://www.gsa.gov/masadvisorypanel or you may contact Ms. Pat Brooks, Designated Federal Officer, Multiple Award Schedule Advisory Panel, U.S. General Services Administration, 2011 Crystal Drive, Suite 911, Arlington, VA 22205; telephone 703 605-3406, Fax 703 605-3454; or via e-mail at mas.advisorypanel@gsa.gov.

Dated: April 18, 2008.
Diedra Wingate,
Federal Register Liaison.

[FR Doc. E8-8897 Filed 4-24-08; 8:45 am]

BILLING CODE 6820-EP-P